DEPARTMENT OF DEFENSE

Office of the Secretary

Department of Defense Military Family Readiness Council; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the DoD Military Family Readiness Council (MFRC) will take place.

DATES: Open to the public Tuesday, June 9, 2020, from 10:00 a.m. to 12:00 p.m.

ADDRESSES: The address of this open meeting will be online. The phone number for the remote access is 800-309-1256, and the participant code is 838869. This information will also be posted on the DoD MFRC website at: http://www.militaryonesource.mil/those-who-support-mfrc.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is Office of the Deputy Assistant Secretary of Defense for Military Community and Family Policy, Office of Family Readiness Policy, 4800 Mark Center Drive, Alexandria, VA 22350-2300, Room 3G15. Website: http://www.militaryonesource.mil/those-who-support-mfrc. The most up-to-date changes to the meeting agenda can be found on the website.

SUPPLEMENTARY INFORMATION: Due to circumstances beyond the control of the DoD and the Designated Federal Officer (DFO), the DoD MFRC was unable to provide public notification required by 41 CFR 102-3.150(a) concerning the meeting for June 9, 2020. Accordingly, the Advisory Committee Management Officer for the DoD, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the second meeting of the Council for Fiscal Year (FY) 2020. During this meeting the MFRC Members will hear presentations addressing the second focus area for FY 2020, Community Collaboratives and Partnerships.

Agenda: Call to Order, Welcome & Opening Remarks; Administrative Issues; Written Public Submissions; Community Collaboratives and Partnerships Presentations; Building Healthy Military Communities Pilot; DoD Collaboration and Partnerships with State Governments; Military OneSource—Connecting Our Military Community; Questions and Answers Session and Council Member Discussion; Closing Remarks. Note: Exact order may vary.

Meeting Accessibility: Members of the public who are interested in hearing the MFRC meeting may call in using the remote access number 800-309-1256 and participant code 838869.

Written Statements: Persons interested in providing a written statement for review and consideration by Council members attending the June 9 meeting must do so no later than close of business Tuesday, June 2, 2020, through the Council mailbox (osd.pentagon.ousd-p-r.mbx.family-readiness-council@mail.mil). Written statements received after this date will be provided to Council members in preparation for the next MFRC meeting. The DFO will review all submitted written statements and provide copies to all MFRC members. Written statements should not include personally identifiable information such as names of adults and children, phone numbers, addresses, social security numbers, and other contact information within the body of the written statement.

Dated: May 26, 2020.
Aaron T. Siegel,
Alternate OSD Federal Register Liaison Officer, Department of Defense.

[FR Doc. 2020-11609 Filed 5-28-20; 8:45 am]

BILLING CODE 5001-06-P